DEPARTMENT OF COMMERCE

National Telecommunications and Information Administration

[Docket No. 120203097-2097-01]

RIN 0660-XA26

Privacy Act of 1974: Systems of Records

AGENCY: National Telecommunications and Information Administration, U.S. Department of Commerce.

ACTION: Notice.

SUMMARY: The Department of Commerce publishes this notice to announce the deletion of a Privacy Act System of Records entitled, COMMERCE/NTIA-1 “Applications Related to Coupons for Digital-to-Analog Converter Boxes.” The Digital-to-Analog Converter Box Program has been terminated and this system of records will be deleted to comply with the applicable Disposition Authority.

DATES: This system of records will be deleted on February 8, 2012.

FOR FURTHER INFORMATION CONTACT: Danielle N. Rodier, Attorney-Advisor, Office of the Chief Counsel, National Telecommunications and Information Administration, Room 4713, 14th Street and Constitution Avenue NW., Washington, DC 20230.

SUPPLEMENTARY INFORMATION: On December 23, 2011, the National Telecommunications and Information Administration (NTIA), U.S. Department of Commerce, published a notice in the Federal Register requesting comments on the deletion of a Privacy Act System of Records, entitled COMMERCE/NTIA-1, “Applications Related to Coupons for Digital-to-Analog Converter Boxes.” (76 FR 80344; Dec. 23, 2011). NTIA received no comments in response to this notice.

The National Archives and Records Administration (NARA) authorized NTIA to dispose of records (Disposition Authority) associated with the Digital-to-Analog Converter Box Program, including this system of records. See Request for Records Disposition Authority, N1-417-08-1 (July 13, 2009), available at http://www.archives.gov/records-mgmt/rcs/schedules/departments/department-of-commerce/rg-0417/n1-417-08-001_sf115.pdf. The Disposition Schedule provides that applicant household records are to be deleted two years after termination of the program. NTIA determined that the date for termination of the program was December 31, 2009, because the essential functions of the program had ceased by that date. Accordingly, by this notice NTIA announces that it will delete this system of records on February 8, 2012 to comply with the Disposition Authority.

Dated: February 3, 2012.
Jonathan R. Cantor,
Chief Privacy Officer, Department of Commerce.

[FR Doc. 2012-2900 Filed 2-7-12; 8:45 am]

BILLING CODE 3510-60-P